DEPARTMENT OF TRANSPORTATION

Research and Special Programs Administration

Office of Hazardous Materials Safety; Notice of Application for Exemptions

AGENCY: Research and Special Programs Administration, DOT.

ACTION: List of applications for exemption.

SUMMARY: In accordance with the procedures governing the application for, and the processing of, exemptions from the Department of Transportation's Hazardous Materials Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before March 29, 2004.

Address Comments To: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street, SW., Washington, DC or at http://www.dms.dot.gov.

This notice of receipt of applications for modification of exemption is published in accordance with part 107 of the Federal hazardous materials transportation law (49 U.S.C. 5117(b); 49 CFR 1.53(b)).

Issued in Washington, DC, on February 20, 2004.
R. Ryan Posten,
Exemptions Program Officer, Office of Hazardous Materials Exemptions & Approvals.

New Exemption
Application No. | Docket No. | Applicant | Regulation(s) affected | Nature of exemption thereof
13357-N |  | Indiana Michigan Power Company, Buchanan, MI | 49 CFR 173.403; 173.427 | To authorize the transportation in commerce of four steam generators containing Class 7 radioactive material. (modes 1, 2).
13401-N |  | Northern States Power Company dba XCEL Energy Services, Inc., Welch, MN | 49 CFR 173.403; 173.427 | To authorize the transportation in commerce of two steam generators containing Class 7 radioactive material.
13423-N |  | E.I. DuPont de Nemours & Company, Inc., Wilmington, DE | 49 CFR 173.40(e) | To authorize the transportation in commerce of Division 6.1 toxic liquid in DOT-specification cylinders that have been manifolded or interconnected. (mode 1).
13424-N |  | Air Products and Chemicals, Inc., St. Gabriel, LA | 49 CFR 177.834(i)(3) | To authorize cargo tanks to remain connected while standing without the physical presence of an unloader. (mode 1).
13425-N |  | MDS Nordion, Ottawa, ON | 49 CFR 173.471 | To authorize the transportation in commerce of Class 7 hazardous materials for disposal contained in specially designed equipment. (mode 1).
13426-N |  | Capintec, Inc., Pittsburgh, PA | 49 CFR 173.302; 175.3 | To authorize the transportation in commerce of non-DOT specification containers for use in transporting Argon, Division 2.2. (modes 1, 4, 5).
13441-N |  | Eastman Kodak Company HSE—Hazmat Transportation Services, Rochester, NY | 49 CFR 173.6(a)(1)(ii), 173.6(d) | To authorize the transportation in commerce of limited quantities of waste materials in amounts that exceed the quantity limitations specified under the material of trade exception as defined in 49 CFR. (mode 1).
13443-N |  | Koch Materials Company, Wichita, KS | 49 CFR 173.24(c); 173.202; 173.203; 177.834(h); 173.28(a) and (b) | To authorize the transportation in commerce of alternative shipping containers to be used for non-bulk quantities of chemical additives used in the manufacture of asphalt products. (mode 1).
13444-N |  | Halliburton Energy Services, Inc., Duncan, OK | 49 CFR 173.201; 173.302; 173.304; 178.35(e); 178.36 | To authorize the manufacture, mark, sale and use of a non-DOT specification cylinder for the transportation of well site oil/natural gas samples. (modes 1, 2, 3, 4).
13445-N |  | U.S. Department of Energy, Richland, WA | 49 CFR 173.211; 173.244 | To authorize the one-time one-way transportation in commerce of a specially designed device containing Sodium, Division 4.3 for recycling purposes. (mode 1).

[FR Doc. 04-4282 Filed 2-25-04; 8:45 am]

BILLING CODE 4909-60-M